DEPARTMENT OF COMMERCE

Office of the Secretary

Notice of an Opportunity To Apply for Membership on the National Advisory Council on Innovation and Entrepreneurship

AGENCY: Office of the Secretary, U.S. Department of Commerce.

ACTION: Notice.

SUMMARY: The Department of Commerce is currently seeking applications for membership on the National Advisory Council on Innovation and Entrepreneurship (Council). The purpose of the Council is to advise the Secretary of Commerce on matters related to innovation and entrepreneurship.

ADDRESSES: Please submit application information to the Office of Innovation and Entrepreneurship at Room 4077, 1401 Constitution Avenue, NW., Washington, DC 20230 or electronically to entrepreneurship@doc.gov.

DATES: All applications must be received by the Office of Innovation and Entrepreneurship by close of business on November 30, 2009.

FOR FURTHER INFORMATION CONTACT: The Office of Innovation and Entrepreneurship, Room 4077, 1401 Constitution Avenue, NW., Washington, DC 20230, telephone: 202-482-5336, e-mail: entrepreneurship@doc.gov.

SUPPLEMENTARY INFORMATION: The Office of Innovation and Entrepreneurship is accepting applications for the Council for the upcoming 2-year charter term beginning November 2009. Members shall serve until the Council charter expires in November 2011. Members will be selected, in accordance with applicable Department of Commerce guidelines, based on their ability to advise the Secretary of Commerce on matters relating to innovation and entrepreneurship. Members of the Council shall be selected in a manner that ensures that the Council is balanced in terms of perspectives and expertise with regard to innovation and entrepreneurship. To that end, the Secretary seeks to appoint members who represent diversity in industry, experience, and geographic area. Additional factors which may be considered in the selection of Council members include candidates' proven experience in innovation and entrepreneurship, or in promoting entrepreneurship. Priority may be given to successful entrepreneurs, innovators, angel investors, venture capitalists, and other experts drawn from non-governmental organizations, foundations and non-profits that have significant experience in innovation and entrepreneurship. Nominees will be evaluated consistent with the factors specified in this notice and their ability to carry out the goals of the Council. Self-nominations will be accepted. Appointments will be made without regard to political affiliation. The Council will identify and recommend solutions to issues critical to enabling entrepreneurs and firms to successfully commercialize new ideas and technologies into high-growth, innovation-based businesses and to create new jobs. The Council will also serve as a vehicle for ongoing dialogue with the entrepreneurship community. The duties of the Council are solely advisory; it shall report to the Secretary of Commerce, through the Office of Policy and Strategic Planning in the Office of the Secretary.

Membership: Members will serve at the discretion of the Secretary of Commerce. Because members will be appointed as experts, members will be considered special government employees. Members participating in Council meetings and events will be responsible for their travel, living, and other personal expenses. Meetings will be held regularly and not less than twice annually, usually in Washington, DC. Members are required to attend a majority of the Council's meetings. The first Council meeting for the new charter term has not yet been established.

Eligibility: In addition to the factors stated above, eligibility for membership is limited to U.S. citizens who are not full-time employees of a government entity, are not registered with the Department of Justice under the Foreign Agents Registration Act, and are not a federally-registered lobbyist.

Application Procedure: For consideration, a nominee should send (1) resume, (2) personal statement of interest, (3) an affirmative statement that the applicant is not required to register as a foreign agent under the Foreign Agents Registration Act of 1938, as amended, and (4) an affirmative statement that the applicant is not a federally-registered lobbyist. Applications should be sent to the Office of Innovation and Entrepreneurship at Room 4077, 1401 Constitution Avenue NW., Washington, DC 20230. Applications may also be submitted electronically to entrepreneurship@doc.gov.

Appointments of members of the Council will be made by the Secretary of Commerce.

Dated: November 10, 2009.
John J. Phelan, III,
Director for Management and Organization.

[FR Doc. E9-27506 Filed 11-16-09; 8:45 am]

BILLING CODE 3510-03-P